DEPARTMENT OF THE INTERIOR

Bureau of Reclamation

[RR02630000, 14XR0680A2, RX191247001000000]

Notice of Availability of Resource Management Plan and Final Environmental Impact Statement for the Newlands Project, Nevada

AGENCY: Bureau of Reclamation, Interior.

ACTION: Notice.

SUMMARY: The Bureau of Reclamation (Reclamation) has prepared the Resource Management Plan/Final Environmental Impact Statement (Final RMP/EIS) for the Newlands Project. This Final RMP/EIS provides a range of alternatives for managing Reclamation-administered lands in the Newlands Project Planning Area, which is in the west-central Nevada counties of Washoe, Storey, Lyon, and Churchill.

DATES: Reclamation will not make a decision on the proposed action until at least 30 days after release of the Final RMP/EIS. After the 30-day waiting period, Reclamation will complete a Record of Decision (ROD). The ROD will state the action that will be implemented and will discuss all factors leading to the decision.

ADDRESSES: Please send any correspondence to Mr. Bob Edwards, Resources Division Manager, Bureau of Reclamation, 705 N. Plaza Street, Room 320, Carson City, NV 89701; via fax at 775-882-7592; or by email to redwards@usbr.gov.

FOR FURTHER INFORMATION CONTACT: Mr. Bob Edwards at 775-884-8342. The Final RMP/EIS will be available from the following Web site: http://www.usbr.gov/mp/nepa/nepa_projdetails.cfm?Project_ID=2822. See the SUPPLEMENTARY INFORMATION section for locations where copies of the Final RMP/EIS are available for public review.

SUPPLEMENTARY INFORMATION: A Notice of Availability of the Draft RMP/EIS was published in the Federal Register on May 28, 2013 (78 FR 31974). The comment period on the Draft RMP/EIS ended on July 29, 2013. The Final RMP/EIS contains responses to all comments received and reflects comments and any additional information received during the review period.

The Newlands Project provides irrigation water from the Truckee and Carson Rivers for cropland in the Lahontan Valley near Fallon and benchlands near Fernley in western Nevada through a series of diversions, canals, dams, and reservoirs. The Newlands Project Planning Area (Planning Area) encompasses approximately 442,000 acres surrounding the Newlands Project facilities and is composed of all Bureau of Reclamation (Reclamation)-administered lands, including water bodies, managed as part of the Newlands Project.

The Newlands Project lands have been administered to date in accordance with applicable directives, and standards. The purpose of the Newlands Project RMP is to provide a single, comprehensive land use plan that will guide contemporary resource and recreation needs of the Federal lands administered by Reclamation in the Planning Area. The RMP will help support the Newland Project's authorized purposes: Water supply, recreation, water quality, support of fish and wildlife, and any other purposes recognized as beneficial under the laws of Nevada.

This RMP addresses the use of Federal lands administered by Reclamation in the Planning Area that are ancillary to the primary purpose of providing water for irrigation. The water resource itself and the facilities and infrastructure used to transport and store water are excluded from this RMP.

This Final RMP/EIS addresses the interrelationships among the various resources in the Planning Area and provides management options to balance resource management between Reclamation's mission and authority, and the needs of the public to use these lands. Reclamation's authority to prepare the RMP is outlined in the Reclamation Recreation Management Act of 1992 (Pub. L. 102-575, Title 28).

The purposes of the Newlands Project RMP are as follows:

• Provide a framework to ensure Reclamation plans and activities comply with all appropriate Federal, State, and local laws, rules, regulations, and policies;

• Provide for the protection and management of natural and cultural resources and public health and safety;

• Provide for non-water based recreation management and development and other uses consistent with contemporary and professional resource management and protection theories, concepts, and practices; and

• Be consistent with Reclamation's fiscal goals and objectives.

The RMP is needed because no unifying management plan exists to guide Reclamation in achieving the demands listed above.

Proposed Resource Management Plan

Three management alternatives were developed to address the major planning issues. Each alternative provides direction for resource programs based on the development of specific goals and management actions. Each alternative describes specific issues influencing land management and emphasizes a different combination of resource uses, allocations, and restoration measures to address issues and resolve conflicts among users. Resource program goals are met in varying degrees across alternatives. Management scenarios for programs not tied to major planning issues or mandated by laws and regulations often contain few or no differences in management between alternatives. The alternatives vary in the degree to which activities are allowed or restricted, the amount of access allowed for activities, and the amount of mitigation or restoration required for authorized activities. Grazing is where the alternatives differ the most and was of most interest to the public during scoping.

Copies of the Final RMP/EIS are available for public review at the following locations:

• Washoe County Library, Fernley Branch Lyon County Library, and the Churchill County Library

• Natural Resources Library, Department of the Interior, 1849 C Street NW., Main Interior Building, Washington, DC 20240

• Bureau of Reclamation, Lahontan Basin Area Office, 705 N. Plaza Street, Room 320, Carson City, NV

Public Disclosure

Before including your address, phone number, email address, or other personal identifying information in any correspondence, you should be aware that your entire correspondence—including your personal identifying information—may be made publicly available at any time. While you can ask us in your correspondence to withhold your personal identifying information from public review, we cannot guarantee that we will be able to do so.

Dated: September 8, 2014.
Jason R. Phillips,
Deputy Regional Director.

[FR Doc. 2014-27272 Filed 11-17-14; 8:45 am]

BILLING CODE 4332-90-P